DEPARTMENT OF COMMERCE

National Oceanic and Atmospheric Administration

50 CFR Part 648

[Docket No. 0907301206-0032-02]

RIN 0648-XW95

Fisheries of the Northeastern United States; Atlantic Mackerel, Squid, and Butterfish Fisheries; Adjustment to the Loligo Trimester 2 and 3 Quota

AGENCY: National Marine Fisheries Service (NMFS), National Oceanic and Atmospheric Administration (NOAA), Commerce.

ACTION: Temporary rule; inseason adjustment.

SUMMARY: NMFS adjusts the 2010 Fishing Year (FY) Trimester 2 and 3 Loligo squid quotas. This action complies with the 2010 Specifications and Management Measures for the Atlantic Mackerel, Squid, and Butterfish Fisheries Management Plan, which modified accounting procedures for underages of Trimester 1 quota in the Loligo fishery.

DATES: Effective June 30, 2010 through December 31, 2010.

FOR FURTHER INFORMATION CONTACT: Lindsey Feldman, Fishery Management Specialist, 978-675-2179, Fax 978-281-9135.

SUPPLEMENTARY INFORMATION: NMFS published the final rule for the 2010 Specifications and Management Measures for the Atlantic Mackerel, Squid, and Butterfish Fisheries in the Federal Register on February 3, 2010 (75 FR 5537). The final rule modified accounting procedures for underages of Trimester 1 quota in the Loligo fishery, so that Trimester 1 quota underages that are greater than 25 percent of the Trimester 1 quota are allocated equally to Trimesters 2 and 3, and underages that are less than 25 percent of the Trimester 1 quota are allocated to Trimester 3.

For FY 2010, the initial Loligo Trimester 1 quota was 17,696,509 lb (8,027 mt), which is equal to 43 percent of the domestic annual harvest (DAH), excluding research set-aside (RSA) quota. The best available landings information indicates that 3,133,110 lb (1,421 mt) of Loligo was landed during Trimester 1, and 14,563,399 lb (6,606 mt) remain. Consistent with the 2010 Specifications and Management Measures, as the quota underages for Trimester 1 are greater than 25 percent of the Trimester 1 quota, the underages are divided in half, with half applied to Trimester 2, and the other half applied to Trimester 3. This results in a revised Trimester 2 quota from the initial quota of 6,995,269 lb (3,173 mt) to a new quota of 14,276,968 lb (6,476 mt) and a revised Trimester 3 quota from the initial quota of 16,461,920 lb (7,467 mt) lb to a new quota of 23,743,619 lb (13,770 mt).

Classification

This action is required by 50 CFR part 648 and is exempt from review under Executive Order 12866.

The Assistant Administrator for Fisheries, NOAA (AA), finds good cause pursuant to 5 U.S.C. 553(b)(B) to waive prior notice and the opportunity for public comment because it would be contrary to the public interest. This action modifies the Trimester 2 and 3 Loligo quotas for FY 2010, as specified in the FY 2010 Specification and Management Measures for the Atlantic Mackerel, Squid, and Butterfish Fisheries. The regulations at § 648.22(a)(2)(i) require such action to ensure the quota is not under-harvested and is distributed evenly throughout the year. Landings information indicates that underages from Trimester 1 are greater than 25 percent of the Trimester 1 Loligo quota. Trimester 2 began on May 1, 2010, and a delay in increasing the quota could result in premature closure of the fishery. As such, the distribution of Trimester 1 underages to Trimesters 2 and 3 must occur without delay. The AA further finds, pursuant to 5 U.S.C. 553(d)(3), good cause to waive the 30-day delayed effectiveness period for the reasons stated above.

Authority: 16 U.S.C. 1801 et seq.

Dated: June 25, 2010
Carrie Selberg,
Acting Director, Office of Sustainable Fisheries, National Marine Fisheries Service.

[FR Doc. 2010-15933 Filed 6-29-10; 8:45 am]

BILLING CODE 3510-22-S